DEPARTMENT OF THE TREASURY

Office of the Secretary

31 CFR Part 1

Privacy Act; Implementation

AGENCY: Office of the Secretary, Treasury.

ACTION: Final rule.

SUMMARY: The Department of the Treasury is adopting, without change, an interim rule that amended its regulations on the Privacy Act of 1974, as Amended, by removing three Privacy Act systems of records from this part, revising the title of the one remaining Privacy Act system of records relating to the functions of the Alcohol and Tobacco Tax and Trade Bureau, and retaining the Privacy Act exemptions for TTB's one remaining system of records.

DATES: Effective Date: October 19, 2010.

FOR FURTHER INFORMATION CONTACT: Karen Welch, Regulations and Rulings Division, Alcohol and Tobacco Tax and Trade Bureau (202-453-2046) or Karen.Welch@ttb.gov.

SUPPLEMENTARY INFORMATION: Effective January 24, 2003, the Homeland Security Act of 2002 divided the Bureau of Alcohol, Tobacco and Firearms (ATF) into two new Agencies, the Alcohol and Tobacco Tax and Trade Bureau (TTB) and the Bureau of Alcohol, Tobacco, Firearms and Explosives (ATFE) in the Department of Justice. ATFE oversees Federal firearms, explosives, and arson laws and programs, and administers laws pertaining to alcohol and tobacco smuggling and diversion. TTB is responsible for administering chapters 51 (relating to distilled spirits, wine, and beer) and 52 (relating to tobacco products and cigarette papers and tubes) of title 26 U.S.C., the Internal Revenue Code of 1986, as amended (IRC). TTB also administers sections 4181 and 4182 (relating to the excise tax on firearms and ammunition) of the IRC and title 27 of the U.S.C. (relating to alcohol).

After the organizational change, TTB conducted a review of its records to determine which records are Privacy Act systems of records. The review determined that one of the six ATF systems of records still existed within TTB, and five of ATF's six systems of records could be removed from the Department of the Treasury's Privacy Act systems of records inventory. As a result of this review, on September 2, 2008, the Department of the Treasury published in the Federal Register at 73 FR 51344 a notice of systems of records for the one system currently in TTB's inventory, “Treasury/TTB .001-Regulatory Enforcement Record System.”

The changes in organization and in TTB's inventory of systems of records also required changes to the Department of the Treasury's regulations in 31 CFR part 1. On September 2, 2008, the Department of the Treasury published in the Federal Register (73 FR 51218) an interim rule amending 31 CFR 1.20 and 1.36 by revising the title of the Bureau from “Bureau of Alcohol, Tobacco and Firearms” to “Alcohol and Tobacco Tax and Trade Bureau,” by removing three Privacy Act systems of records from the 31 CFR 1.36, by renaming the one remaining system of records, and by retaining the prior exemption from certain provisions of the Privacy Act pursuant to 5 U.S.C. 552a(k)(2) for the one remaining, renamed system of records.

The interim rule also invited the submission of public comments on the regulatory amendments, prior to the comment period closing on October 2, 2008. The Department did not receive any comments on the interim rule. Accordingly, we have determined that it is appropriate to adopt that interim rule as a final rule without change.

In accordance with Executive Order 12866, it has been determined that this final rule is not a “significant regulatory action” and, therefore, does not require a Regulatory Impact Analysis. The regulation will not have a substantial direct effect on the States, on the relationship between the national Government and the States, or on the distribution of power and responsibilities among the various levels of government. Therefore, it has been determined that this final rule does not have federalism implications under Executive Order 13132.

Because no notice of proposed rulemaking is required, the provisions of the Regulatory Flexibility Act (5 U.S.C. 601 et seq.) do not apply.

List of Subjects in 31 CFR Part 1

Freedom of Information; Privacy.

The Regulatory Amendment

For the reasons discussed in the preamble, the interim rule amending 31 CFR part 1, published in the Federal Register at 73 FR 51218 on September 2, 2008, is adopted as a final rule without change.

Dated: September 28, 2010.
Melissa Hartman,
Deputy Assistant Secretary for Privacy, Transparency, and Records.

[FR Doc. 2010-26326 Filed 10-18-10; 8:45 am]

BILLING CODE 4810-31-P